DEPARTMENT OF HEALTH AND HUMAN SERVICES

Centers for Disease Control and Prevention

[Program Announcement 04274]

HIV/AIDS Surveillance in VCT/PMTCT Centers in Haiti Including Support of Annual Sero-Survey of Pregnant Women; Notice of Availability of Funds; Amendment

A notice announcing the availability of fiscal year (FY) 2004 funds for cooperative agreements for immunization projects was published in the Federal Register July 29, 2004, Volume 69, Number 145, pages 45322-45326. The notice is amended as follows:

Page 45323, Section II. Award Information: change Approximate Average Award to $550,000. (This amount is for the first 12-month budget period and includes direct costs.)

William P. Nichols,
Acting Director,Procurement and Grants Office,Centers for Disease Control and Prevention.

[FR Doc. 04-19309 Filed 8-23-04; 8:45 am]

BILLING CODE 4163-18-P